FEDERAL MARITIME COMMISSION

Ocean Transportation Intermediary License Applicants

Notice is hereby given that the following applicants have filed with the Federal Maritime Commission an application for license as a Non-Vessel- Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel- Operating Common Carrier Ocean Transportation Intermediary Applicants:

AS-AV Uluslararasi Nakliyat Ve Ticaret Limited Sirketi, Mehmet Akif Caddesi 1. Sok. No: 23 Sirinevler, Istanbul, 34180, Turkey. Officers: Mehmet Yavuz Kankavi, Director of Overseas Opera. (Qualifying Individual), Melek Karabacak, President.

Newport Logistics, Inc., 171 Erick Street, Unit Y1, Crystal Lake, IL 60014. Officer: Michael Chung, President (Qualifying Individual).

Waterline Pakistan (PVT) Ltd., Ground Floor, 4-A, Kehkashan Town Houses, Block 5, Clifton, Karachi-75600—Pakistan. Officers: Capt. Ghulam Mustafa, Partner, Capt. Asaf Hayat, Officer (Qualifying Individuals).

Non-Vessel- Operating Common Carrier Ocean Freight Forwarder Transportation Intermediary Applicants:

Jauser Cargo Corporation, 5589 NW., 72nd Avenue, Miami, FL 33166. Officers: Gabriel Terra, Director (Qualifying Individual), Jorge Sere Ferber, President.

Fun N' Stuff International USA, Inc., dba Air Ocean Land Transport Logistics Inc., 13169 Alta Vista Way, Sylmar, CA 91342. Officers: Nash D. Asandas, President (Qualifying Individual), Carmencita Hernandez-Asandas, CFO.

Global Shipping Services, LLC, 200 Route 22 East, Hillside, NJ 07205. Officer: Morten Olesen, President (Qualifying Individual).

Asiapac Forwarding & Supply Chain Management dba Baobao Shipping, 4210 Solar Circle, Union City, CA 94587, Hidayat I. Shaikh, Sole Proprietor.

VIN Worldwide Transport, LLC dba Vinship Lines, Woodbridge Plaza, 485 Route 1, Building B, Suite 310—3rd Floor, Iselin, NJ 08830. Officer: Martin Joakim Aranha, President (Qualifying Individual).

SW Logistics Inc., 1330 Broadway, Suite 1052, Oakland, CA 94612. Officer: Sung Wook Lee, President (Qualifying Individual).

Ocean Freight Forwarder—Ocean Transportation Intermediary Applicant:

Commonwealth Travel & Shipping, 9560 Skillman Road, Suite 100, Dallas, TX 75243. Officer: Victor K. Oyeujo, Sr., Manager (Qualifying Individual).

Dated: October 1, 2004.
Karen V. Gregory,
Assistant Secretary.

[FR Doc. 04-22520 Filed 10-5-04; 8:45 am]

BILLING CODE 6730-01-P